DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that a collection of information has been approved the Office of Management and Budget (OMB) under the Paperwork Reduction Act of 1995 for the Voluntary Fiduciary Correction Program (VFC Program). This notice announces the OMB approval number and expiration date.

FOR FURTHER INFORMATION CONTACT: Address comments on the VFC Program in writing to: VFC Program, Office of Enforcement, Pension and Welfare Benefits Administration, U.S. Department of Labor, Room N-5702, 200 Constitution Avenue, NW, Washington, DC 20210. Written comments may also be sent by Internet to: vfc-program@pwba.dol.gov.

For general questions regarding the VFC Program, contact the appropriate PWBA Regional Office listed in Appendix C of the VFC Program (65 FR 14179), or Jeffrey A. Monhart, Investigator, Office of Enforcement, Pension and Welfare Benefits Administration ((202) 219-8820). For comments on the VFC Program, contact Elizabeth A. Goodman, Pension Law Specialist, Office of Regulations and Interpretations, Pension and Welfare Benefits Administration ((202) 219-8671).

Address comments on the information collection request (ICR) and requests for copies of the ICR to Gerald B. Lindrew, U.S. Department of Labor, Pension and Welfare Benefits Administration, 200 Constitution Avenue, NW, Room N-5647, Washington, DC 20210. Telephone: (202) 219-4782. These telephone numbers are not toll-free.

SUPPLEMENTARY INFORMATION: On March 15, 2000, PWBA published a notice concerning its adoption of a Voluntary Fiduciary Correction Program (65 FR 14164), which allows certain persons to correct possible fiduciary breaches of Part 4 of Title I of ERISA, and to avoid potential civil actions initiated by the Department of Labor under the Employee Retirement Income Security Act of 1974 (ERISA), and the assessment of civil penalties under section 502(1) of ERISA. Although written comments on the VFC Program were accepted through May 15, 2000, the Department submitted the information collection request (ICR) included in the VFC Program to OMB using emergency procedures, and requested approval by April 14, 2000. The information collection provisions of the VFC Program generally require that documentation of the correction of a fiduciary breach be supplied to the Department.

On April 14, 2000, OMB approved the ICR under emergency provisions of the Paperwork Reduction Act of 1995 (44 U.S.C. 3501 et seq.) and 5 CFR 1320. The approval will expire on September 30, 2000. The control number assigned to this ICR by OMB is 1210-0118. PWBA will take any comments received into consideration in finalizing the VFC Program and in preparing the application for continuing approval of the ICR, which will be submitted to OMB prior to the expiration of the emergency approval.

Dated: May 15, 2000.
Gerald B. Lindrew,
Deputy Director, Office of Policy and Research, Pension and Welfare Benefits Administration.

[FR Doc. 00-12664 Filed 5-18-00; 8:45 am]

BILLING CODE 4510-29-M